DEPARTMENT OF THE INTERIOR

National Park Service

Notice of Meeting

AGENCY: National Park Service, U.S. Department of the Interior.

ACTION: Notice of meeting.

SUMMARY: Notice is hereby given in accordance with the Federal Advisory Commission Act that a meeting of the National Landmarks Committee of the National Park System Advisory Board will be held at 9 on the following dates and at the following location.

DATES: October 15 and October 16, 2002.

ADDRESSES: The Charles Sumner School, Museum and Archives, 1201 Seventeenth Street, NW, Washington, DC 20036.

FOR FURTHER INFORMATION CONTACT: Patricia Henry, National Historic Landmarks Survey, National Register, History, and Education, National Park Service; in care of Ms. Shirley Sears Smith; National Park Service, Office of Policy; 1849 C Street, NW; Room 2414; Washington, DC 20240. Telephone (through Ms. Shirley Smith) (202) 208-7456.

SUPPLEMENTARY INFORMATION: The purpose of the meeting of the National Landmarks Committee of the National Park System Advisory Board is to evaluate nominations of historic properties in order to advise the full National Park System Advisory Board of the qualifications of properties being proposed for National Historic Landmark (NHL) designation, and to recommend to the National Park System Advisory Board those properties that the Landmarks Committee finds meet the criteria for designation as National Historic Landmarks. The members of the National Landmarks Committee are:

Dr. Janet Snyder Matthews, CHAIR

Dr. Allyson Brooks

Dr. Ian W. Brown

Mr. S. Allen Chambers, Jr.

Dr. Elizabeth Clark-Lewis

Dr. Bernard L. Herman

Professor E.L. Roy Hunt

Ms. Paula J. Johnson

Mr. Jerry L. Rogers

Dr. Richard Guy Wilson

The meeting will include presentations and discussions on the national historic significance and the historic integrity of a number of properties being nominated for National Historic Landmark designation. The meeting will be open to the public. However, facilities and space for accommodating members of the public are limited. Any member of the public may file for consideration by the committee written comments concerning nominations and matters to be discussed pursuant to 36 CFR Part 65.

Comments should be submitted to Carol D. Shull, Chief, National Historic Landmarks Survey and Keeper of the National Register of Historic Places; National Register, History, and Education (2280); National Park Service; in care of Ms. Shirley Sears Smith; National Park Service, Office of Policy; 1849 C Street, NW; Room 2414; Washington, DC 20240.

The committee will consider the following nominations:

Arkansas

Centennial Baptist Church

Illinois

Columbus Park

Indiana

Allen County Courthouse

Oldfields

Iowa

Terrace Hill

Maryland

Rebecca T. Ruark

Massachusetts

Beauport

Jacob's Pillow Dance Festival

Mount Auburn Cemetery

Revere Beach Reservation

Union Oyster House

New York

Dr. Oliver Bronson House and Estate

Philosophy Hall

Ohio

Adena (Thomas Worthington House)

Pennsylvania

Buckingham Friends Meeting House

Tennessee

Sun Record Company/Memphis Recording Service

Texas

USS Lexington

Virginia

Prestwould

Washington

Hashidate Yu at the Panama Hotel

West Virginia

The Baltimore and Ohio Railroad Martinsburg Shops

Wisconsin

Herbert and Katherine Jacobs First House

Herbert and Katherine Jacobs Second House

Ten Chimneys

Wyoming

Fort Yellowstone

Jackson Lake Lodge

The Committee will also consider the following boundary adjustments, additional documentation and withdrawals of designation:

Delaware

New Castle County Courthouse (name change and additional documentation)

District of Columbia, Maryland, and Virginia

Washington Aqueduct (boundary adjustment and additional documentation)

Tennessee

Nashville Union Station and Trainshed (withdrawal of designation)

The committee will also consider the recommendations presented in the Draft Star-Spangled Banner National Historic Trail Study, prepared under the auspices of Public Law 104-333.

Dated: July 31, 2002.
Carol D. Shull,
Chief, National Historic Landmarks Survey and Keeper of the National Register of Historic Places; National Park Service, Washington, DC.

[FR Doc. 02-20377 Filed 8-9-02; 8:45 am]

BILLING CODE 4310-70-P